DEPARTMENT OF COMMERCE

International Trade Administration

[A-357-818]

Lemon Juice From Argentina: Continuation of Suspended Antidumping Duty Investigation

AGENCY: Import Administration, International Trade Administration, Department of Commerce.

SUMMARY: As a result of the determination by the Department of Commerce (“the Department”) and the International Trade Commission (“ITC”) that termination of the suspended investigation on lemon juice from Argentina would likely lead to continuation or recurrence of dumping, and material injury to an industry in the United States, the Department is publishing notice of the continuation of this suspended antidumping duty investigation.

DATES: Effective Date: August 7, 2013.

FOR FURTHER INFORMATION CONTACT: Anne D'Alauro or Judith Wey Rudman, Import Administration, International Trade Administration, U.S. Department of Commerce, 14th Street and Constitution Avenue NW., Washington, DC 20230; telephone (202) 482-4830 or (202) 482-0192, respectively.

SUPPLEMENTARY INFORMATION:

Background

On August 1, 2012, the Department initiated, and the ITC instituted, a sunset review of the suspended antidumping duty investigation on lemon juice from Argentina (“suspended investigation”), pursuant to section 751(c) of the Tariff Act of 1930, as amended (“the Act”). See Initiation of Five-year (“Sunset”) Review and Correction, 77 FR 45589 (August 1, 2012) and [Investigation Nos. 731-TA-1105-1106 (Review)] Lemon Juice from Argentina and Mexico, 77 FR 45653 (August 1, 2012). As a result of its review, the Department determined that termination of the suspended investigation on lemon juice from Argentina would likely lead to a continuation or recurrence of dumping and notified the ITC of the magnitude of the margins likely to prevail, should the suspended investigation be terminated. See Lemon Juice from Argentina; Final Results of the Expedited First Sunset Review of the Suspended Antidumping Duty Investigation, 77 FR 73021 (December 7, 2012).

On July 10, 2013, pursuant to section 751(c) of the Act, the ITC determined that termination of the suspended investigation on lemon juice from Argentina would be likely to lead to continuation or recurrence of material injury to an industry in the United States within a reasonably foreseeable time. See Lemon Juice from Argentina, 78 FR 46610 (August 1, 2013).

Therefore, pursuant to section 351.218(f)(4) of the Department's regulations, the Department is publishing this notice of the continuation of the suspended investigation on lemon juice from Argentina.

Scope

The merchandise covered by the suspended investigation includes certain lemon juice for further manufacture, with or without addition of preservatives, sugar, or other sweeteners, regardless of the GPL (grams per liter of citric acid) level of concentration, brix level, brix/acid ratio, pulp content, clarity, grade, horticulture method (e.g., organic or not), processed form (e.g., frozen or not-from-concentrate), FDA standard of identity, the size of the container in which packed, or the method of packing.

Excluded from the scope are: (1) Lemon juice at any level of concentration packed in retail-sized containers ready for sale to consumers, typically at a level of concentration of 48 GPL; and (2) beverage products such as lemonade that typically contain 20% or less lemon juice as an ingredient.

Lemon juice is classifiable under subheadings 2009.39.6020, 2009.31.6020, 2009.31.4000, 2009.31.6040, and 2009.39.6040 of the Harmonized Tariff Schedule of the United States (HTSUS). While HTSUS subheadings are provided for convenience and customs purposes, our written description of the scope of the suspended investigation is dispositive.

Continuation of the Suspended Investigation

As a result of the respective determinations by the Department and the ITC that termination of the suspended investigation on lemon juice from Argentina would likely lead to continuation or recurrence of dumping and material injury to an industry in the United States, pursuant to section 751(d)(2) of the Act, the Department hereby gives notice of the continuation of the suspended investigation on lemon juice from Argentina. The effective date of continuation will be the date of publication in the Federal Register of this Continuation Notice. Because the Department is continuing the suspended investigation, the suspension agreement will also continue to remain in effect. See Suspension of Antidumping Duty Investigation: Lemon Juice From Argentina, 72 FR 53991 (September 21, 2007). Pursuant to sections 751(c)(2) of the Act, the Department intends to initiate the next five-year sunset review of the suspended investigation on lemon juice from Argentina not later than 30 days prior to the fifth anniversary of the effective date of continuation.

This five-year (sunset) review and notice are in accordance with section 751(c) of the Act and published pursuant to section 777(i)(1) of the Act.

Dated: August 1, 2013.
Paul Piquado,
Assistant Secretary for Import Administration.

[FR Doc. 2013-19067 Filed 8-6-13; 8:45 am]

BILLING CODE 3510-DS-P